DEPARTMENT OF TRANSPORTATION

Federal Aviation Administration

14 CFR Part 39

[Docket No. FAA-2012-0150; Directorate Identifier 2011-NM-234-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for all Airbus Model A318, A319, A320, and A321 series airplanes. That supplemental notice of proposed rulemaking (SNPRM) proposed an inspection to determine if certain angle of attack (AOA) probes are installed, and replacement of any affected AOA probe. That SNPRM was prompted by reports of oil residue between the stator and the rotor parts of the position resolvers of the AOA vane, which was a result of incorrect removal of the machining oil during the manufacturing process of the AOA resolvers. This action revises that SNPRM by clarifying the affected parts. We are proposing this AD to prevent erroneous AOA information and consequent delayed or non-activation of the AOA protection systems which, during flight at a high angle of attack, could result in reduced control of the airplane. Since these actions impose an additional burden over that proposed in the SNPRM, we are reopening the comment period to allow the public the chance to comment on these proposed changes.

DATES: We must receive comments on this proposed AD by January 4, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email account.airworth-eas@airbus.com; Internet http://www.airbus.com. For Thales Avionics service information identified in this proposed AD, contact Thales Avionics, Retrofit Manager, 105, Avenue du Général Eisenhower, BP 63647, 31036 Toulouse Cedex 1, France; telephone +33 5 61 19 76 95; fax +33 5 61 19 68 20; email retrofit.ata@fr.thalesgroup.com; Internet http://www.thalesgroup.com/aerospace. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2012-0150; Directorate Identifier 2011-NM-234-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier SNPRM for the specified products, which was published in the Federal Register on July 11, 2012 (77 FR 40823). That earlier SNPRM proposed to require actions intended to address the unsafe condition for all Airbus Model A318, A319, A320, and A321 series airplanes.

Since that SNPRM (77 FR 40823, July 11, 2012) was issued, we received further information from Airbus clarifying the affected parts subject to the unsafe condition.

Comments

We gave the public the opportunity to comment on the previous SNPRM (77 FR 40823, July 11, 2012). The following presents the comments received on the previous SNPRM and the FAA's response to each comment.

Request To Include Other Service Information

Airbus requested that we revise paragraph (g)(2) of the previous SNPRM (77 FR 40823, dated July 11, 2012) to include other service information that clarifies the affected parts. Airbus stated that paragraph (g)(2) of the previous SNPRM should read, “If any probe is found having P/N C16291AB, on which * * * or AIRBUS Service Bulletin 34-1444 [sic] Revision 00 dated October 07, 2009, has been incorporated * * * ”

We agree with Airbus's request. We have revised paragraph (g)(2) of this SNPRM to include replacement of an AOA probe, P/N C16291AB, on which Thales Avionics Service Bulletin C16291A-34-009, dated September 10, 2009; or Airbus Service Bulletin A320-34-1444, dated October 7, 2009; has been accomplished. We have removed the reference to Thales Avionics Service Bulletin C16291A-34-007, Revision 01, dated December 3, 2009, from paragraph (g)(2) and (i)(2) of this SNPRM.

We have also revised paragraphs (g)(1) and (i)(2) of this SNPRM to prevent replacement with an AOA probe on which Thales Avionics Service Bulletin C16291A-34-009, dated September 10, 2009; or Airbus Service Bulletin A320-34-1444, dated October 7, 2009; has been incorporated.

Request To Use Additional Service Information

Airbus requested that we revise paragraph (i)(1) of the previous SNPRM (77 FR 40823, dated July 11, 2012) to include Thales Avionics Service Bulletin C16291A-34-007, Revision 01, dated December 3, 2009; and Thales Avionics Service Bulletin C16291A-34-007, Revision 02, dated December 16, 2011.

We agree with Airbus's request. We have added the service information to paragraph (i) of this AD.

Request To Use the Airplane Maintenance Manual for Replacing the AOA Probes

UAL requested that, in paragraph (g)(2) of the previous SNPRM (77 FR 40823, dated July 11, 2012), the AOA probes be replaced using Airplane Maintenance Manual (AMM) 34-11-19 PB 401, for the corrective action.

We partially agree with UAL's request. Although we do not agree to mandate the use of Task 34-11-19-000-001-A, Removal of the Angle of Attack Sensor, of the Airbus A318/A319/A320/A321 AMM, we do agree that this AMM task includes procedures for replacing the AOA probes. Therefore, we have added Note 1 to paragraph (g)(2) of this SNPRM, to specify that additional guidance for replacing the AOA probes may be found in Task 34-11-19-000-001-A, Removal of the Angle of Attack Sensor, of the Airbus A318/A319/A320/A321 AMM.

Request To Revise the Labor Rate

United Airlines (UAL) requested that the “Costs of Compliance” section in the previous SNPRM (77 FR 40823, July 11, 2012) be updated to a new labor rate. UAL stated that the FAA's costs of compliance were estimated to take about 2 work-hours per product to comply with the basic requirements of the previous SNPRM, and that the average labor rate is $85 per work-hour. UAL stated that it agrees with the estimated work-hours, but it would like to provide an updated labor rate of $97 per work-hour.

We disagree with UAL's request to change the labor rate in this SNPRM. Our estimate of $85 per work-hour is the current burdened labor rate established for use by the FAA Office of Aviation Policy, Plans, and Management Analysis. The burdened labor rate includes the labor cost, overhead, administrative expenses, etc. Because the labor rate used in our calculations accounts for the variations in costs among those in the airline industry, we consider that $85 per work-hour is appropriate. No change to this SNPRM is necessary in this regard.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier SNPRM (77 FR 40823, dated July 11, 2012). As a result, we have determined that it is necessary to reopen the comment period to provide additional opportunity for the public to comment on this proposed AD.

Costs of Compliance

Based on the service information, we estimate that this proposed AD would affect about 755 products of U.S. registry. We also estimate that it would take about 2 work-hours per product to comply with the basic requirements of this proposed AD. The average labor rate is $85 per work-hour. Based on these figures, we estimate the cost of the proposed AD on U.S. operators to be $128,350, or $170 per product.

In addition, we estimate that any necessary follow-on actions would take about 3 work-hours and require parts costing $0, for a cost of $255 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0150; Directorate Identifier 2011-NM-234-AD.

(a) Comments Due Date

We must receive comments by January 4, 2013.

(b) Affected ADs

None.

(c) Applicability

This AD applies to all Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 34: Navigation.

(e) Reason

This AD was prompted by reports of oil residue between the stator and the rotor parts of the position resolvers of the angle of attack (AOA) vane, which was a result of incorrect removal of the machining oil during the manufacturing process of the AOA resolvers. We are issuing this AD to prevent erroneous AOA information and consequent delayed or non-activation of the AOA protection systems which, during flight at a high angle of attack, could result in reduced control of the airplane.

(f) Compliance

You are responsible for having the actions required by this AD performed within the compliance times specified, unless the actions have already been done.

(g) Inspection

Within 12 months after the effective date of this AD, except as provided by paragraph (h) of this AD: Do the inspections specified in paragraphs (g)(1) and (g)(2) of this AD.

(1) Inspect to determine the part number (P/N) and serial number of each Thales Avionics AOA probe, in accordance with the Accomplishment Instructions of Airbus Service Bulletin A320-34-1452, excluding Appendix 01, dated January 29, 2010. If any probe is found having P/N C16291AA and having a serial number listed in Thales Avionics Service Bulletin C16291A-34-007, Revision 03, dated April 10, 2012: Within 12 months after the effective date of this AD, replace the AOA probe, in accordance with the Accomplishment Instructions of Airbus Service Bulletin A320-34-1452, excluding Appendix 01, dated January 29, 2010, provided that Thales Avionics Service Bulletin C16291A-34-009, dated September 10, 2009; or Airbus Service Bulletin A320-34-1444, dated October 7, 2009; have not been accomplished. Thales Avionics Service Bulletin C16291A-34-009, dated September 10, 2009; and Airbus Service Bulletin A320-34-1444, dated October 7, 2009 (which are not incorporated by reference in this AD); cannot be used for the installation of AOA probes having P/N C16291AB. A review of airplane maintenance records is acceptable in lieu of this inspection if the part number and serial number of the installed AOA probes can be conclusively determined from that review.

(2) Inspect to determine the part number and serial number of each Thales Avionics AOA probe, in accordance with paragraph 3.C.(1)a of the Accomplishment Instructions of Airbus Service Bulletin A320-34-1452, excluding Appendix 01, dated January 29, 2010. If any probe is found having P/N C16291AB, on which Thales Avionics Service Bulletin C16291A-34-009, dated September 10, 2009; or Airbus Service Bulletin A320-34-1444, dated October 7, 2009 (which are not incorporated by reference in this AD); has been accomplished: Within 12 months after the effective date of this AD, replace the AOA probe, in accordance with a method approved by the Manager, International Branch, ANM-116, FAA, or European Aviation Safety Agency (EASA) (or its delegated agent). A review of airplane maintenance records is acceptable in lieu of the inspection specified in this paragraph if the part number of the installed AOA probes can be conclusively determined from that review.

Note 1 to paragraph (g)(2) of this AD: Additional guidance for replacing the AOA probes may be found in Task 34-11-19-000-001-A, Removal of the Angle of Attack Sensor, of the Airbus A318/A319/A320/A321 Aircraft Maintenance Manual, which is not incorporated by reference in this AD.

(h) Exception

For any airplane on which Airbus modification 150006 (installation of Thales Avionics AOA probes P/N C16291AB) or modification 26934 (installation of Goodrich AOA probes P/N 0861ED) has been embodied in production, and on which no AOA probe replacement has been made since first flight: The actions specified in paragraph (g) of this AD are not required.

(i) Parts Installation Limitations

(1) As of the effective date of this AD, no person may install a Thales Avionics AOA probe, P/N C16291AA, having a serial number listed in Thales Avionics Service Bulletin C16291A-34-007, Revision 03, dated April 10, 2012, on any airplane, unless that Thales Avionics probe has been inspected, re-identified, and tested, in accordance with the Accomplishment Instructions of the service information specified in paragraph (i)(1)(i), (i)(1)(ii), or (i)(1)(iii) of this AD.

(i) Thales Avionics Service Bulletin C16291A-34-007, Revision 03, dated April 10, 2012.

(ii) Thales Avionics Service Bulletin C16291A-34-007, Revision 02, dated December 16, 2011.

(iii) Thales Avionics Service Bulletin C16291A-34-007, Revision 01, dated December 3, 2009.

(2) As of the effective date of this AD, no person may install a Thales Avionics AOA probe, P/N C16291AB, on which Thales Avionics Service Bulletin C16291A-34-009, dated September 10, 2009; or Airbus Service Bulletin A320-34-1444, dated October 7, 2009 (which is not incorporated by reference in this AD); has been incorporated.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI European Aviation Safety Agency Airworthiness Directive 2011-0203, dated October 13, 2011, and the service information specified in paragraphs (k)(1)(i) and (k)(1)(ii) of this AD, for related information.

(i) Airbus Service Bulletin A320-34-1452, excluding Appendix 01, dated January 29, 2010.

(ii) Thales Avionics Service Bulletin C16291A-34-007, Revision 03, dated April 10, 2012.

(2) For Airbus service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. For Thales Avionics service information identified in this AD, contact Thales Avionics, Retrofit Manager, 105, Avenue du Général Eisenhower, BP 63647, 31036 Toulouse Cedex 1, France; telephone +33 5 61 19 76 95; fax +33 5 61 19 68 20; email retrofit.ata@fr.thalesgroup.com; Internet http://www.thalesgroup.com/aerospace. You may review copies of the referenced service information at the FAA, Transport Airplane Directorate, 1601 Lind Avenue SW., Renton, Washington. For information on the availability of this material at the FAA, call 425-227-1221.

Issued in Renton, Washington, on November 30, 2012.
Ali Bahrami,
Manager, Transport Airplane Directorate, Aircraft Certification Service.

[FR Doc. 2012-29713 Filed 12-7-12; 8:45 am]

BILLING CODE 4910-13-P